DEPARTMENT OF LABOR

Occupational Safety and Health Administration

[Docket No. OSHA-2023-0013]

Element Materials Technology Portland—Evergreen Inc.: Grant of Recognition

AGENCY: Occupational Safety and Health Administration (OSHA), Labor.

ACTION: Notice.

SUMMARY: In this notice, OSHA announces the final decision to grant recognition to Element Materials Technology Portland—Evergreen, Inc. (EMT), for recognition as a Nationally Recognized Testing Laboratory (NRTL).

DATES: Recognition as a NRTL becomes effective on September 13, 2023.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, phone: (202) 693-2300 or email: robinson.kevin@dol.gov.

SUPPLEMENTARY INFORMATION:

I. Background

Many of OSHA's workplace standards require that a NRTL test and certify certain types of equipment as safe for use in the workplace. NRTLs are independent laboratories that meet OSHA's requirements for performing safety testing and certification of products used in the workplace. To obtain and retain OSHA recognition, the NRTLs must meet the requirements in the NRTL Program regulations at 29 CFR 1910.7. More specifically, to be recognized by OSHA, an organization must: (1) have the appropriate capability to test, evaluate, and approve products to assure their safe use in the workplace; (2) be completely independent of employers subject to the tested equipment requirements, and manufacturers and vendors of products for which OSHA requires certification; (3) have internal programs that ensure proper control of the testing and certification process; and (4) have effective reporting and complaint handling procedures. Recognition is an acknowledgement by OSHA that the NRTL has the capabilities to perform independent safety testing and certification of the specific products covered within the NRTL's scope of recognition and is not a delegation or grant of government authority. Recognition of a NRTL by OSHA also allows employers to use products certified by that NRTL to meet those OSHA standards that require product testing and certification.

The agency processes applications for initial recognition following requirements in Appendix A of 29 CFR 1910.7. This appendix requires OSHA to publish two notices in the Federal Register in processing an application. In the first notice, OSHA announces the application, provides its preliminary findings, and solicits comments on its preliminary findings. In the second notice, the agency provides its final decision on the application and sets forth the NRTL's scope of recognition.

II. Notice of Final Decision

OSHA hereby gives notice of the agency's decision to grant recognition to Element Materials Technology Portland—Evergreen Inc., (EMT) as a NRTL. According to public information (see https://www.element.com/about-element/), EMT states that it is an internationally accredited testing laboratory. In its application, EMT lists the current address of its headquarters as: Element Materials Technology Portland—Evergreen Inc., 41 Tesla, Irvine, California 92618. OSHA has determined that EMT has the capability to perform as a NRTL as outlined in 29 CFR 1910.7.

Each NRTL's scope of recognition has two elements: (1) the type(s) of products the NRTL may test, with each type specified by its applicable test standard; and (2) the recognized site(s) that have the technical capability to perform the product-testing and product-certification activities for the applicable test standards within the NRTL's scope of recognition. EMT applied on June 26, 2020, for three recognized sites and thirteen recognized test standards (OSHA-2023-0013-0002). This application was amended on June 28, 2022, to remove two of the three sites and seven of the thirteen standards requested in the original application (OSHA-2023-0013-0003). OSHA published the preliminary notice announcing EMT's application for recognition in the Federal Register on July 25, 2023 (88 FR 47914). The agency requested comments by August 24, 2023, but it received no comments in response to this notice. OSHA is now proceeding with this final notice to grant recognition to EMT as a NRTL.

To obtain or review copies of all public documents pertaining to EMT's application, go to www.regulations.gov or contact the Docket Office at (202) 693-2350 (TTY (877) 889-5627). Docket No. OSHA-2023-0013 contains all materials in the record concerning EMT's recognition.

III. Final Decision and Order

OSHA staff performed a detailed analysis of EMT's application packet and reviewed other pertinent information. OSHA staff also performed comprehensive on-site assessments of EMT's testing facility, at EMT Irvine, California on January 18-19, 2023. Based on the review of this evidence, OSHA finds that EMT meets the requirements of 29 CFR 1910.7 for recognition as a NRTL, subject to the limitations and conditions listed below. OSHA, therefore, is proceeding with this final notice to grant recognition to EMT as a NRTL. The following sections set forth the scope of recognition included in EMT's grant of recognition.

A. Standards Requested for Recognition

OSHA limits EMT's scope of recognition to testing and certification of products for demonstration of conformance to the test standards listed in Table 1 below.

Table 1—Appropriate Test Standards for Inclusion in EMT's NRTL Scope of Recognition
Test standard | Test standard title
ANSI/AAMI ES60601-1 | Medical Electrical Equipment—Part 1: General Requirements for Basic Safety and Essential Performance.
UL 61010-1 | Electrical Equipment for Measurement, Control and Laboratory Use; Part 1: General Requirements.
UL 61010-2-010 | Electrical Equipment for Measurement, Control and Laboratory Use—Part 2-010: Particular Requirements for Laboratory Equipment for the Heating of Materials.
UL 61010-2-081 | Standard for Safety Requirements for Electrical Equipment for Measurement, Control, and Laboratory Use—Part 2-081: Particular Requirements for Automatic and Semi-Automatic Laboratory Equipment for Analysis and Other Purposes.
UL 61010-2-101 | Safety Requirements for Electrical Equipment for Measurement, Control and Laboratory Use—Part 2-101: Particular Requirements for In Vitro Diagnostic (IVD) Medical Equipment.
UL 62368-1 | Audio/Video, Information and Communication Technology Equipment—Part 1: Safety Requirements.

B. Site Requested for Recognition

OSHA limits EMT's scope of recognition to include one site: Element Materials Technology Portland—Evergreen, Inc., 41 Tesla, Irvine, California 92618. OSHA's recognition of this site limits EMT to performing product testing and certifications only for the test standards for which the site has the proper capability and programs, and for the test standards in EMT's scope of recognition.

C. Conditions

In addition to those conditions already required by 29 CFR 1910.7, EMT also must abide by the following conditions of the recognition:

1. EMT must inform OSHA as soon as possible, in writing, of any change of ownership, facilities, or key personnel, and of any major change in the operations as a NRTL, and provide details of the change(s);

2. EMT must meet all the terms of the recognition and comply with all OSHA policies pertaining to this recognition; and

3. EMT must continue to meet the requirements for recognition, including all previously published conditions on EMT's scope of recognition, in all areas for which it has recognition.

Pursuant to the authority in 29 CFR 1910.7, OSHA hereby grants recognition to EMT as a NRTL, subject to these limitations and conditions specified above.

V. Authority and Signature

James S. Frederick, Deputy Assistant Secretary of Labor for Occupational Safety and Health, authorized the preparation of this notice. Accordingly, the agency is issuing this notice pursuant to 29 U.S.C. 657(g)(2), Secretary of Labor's Order No. 8-2020 (85 FR 58393, September 18, 2020) and 29 CFR 1910.7.

Signed at Washington, DC, on September 6, 2023.
James S. Frederick,
Deputy Assistant Secretary of Labor for Occupational Safety and Health.

[FR Doc. 2023-19712 Filed 9-12-23; 8:45 am]

BILLING CODE 4510-26-P